DEPARTMENT OF HOMELAND SECURITY

Coast Guard

33 CFR Part 117

[CGD01-04-122]

Drawbridge Operation Regulations: Merrimack River, MA

AGENCY: Coast Guard, DHS.

ACTION: Notice of temporary deviation from regulations.

SUMMARY: The Commander, First Coast Guard District, has issued a temporary deviation from the drawbridge operation regulations for the Newburyport US1 Bridge, mile 3.4, across the Merrimack River, Massachusetts. This deviation allows the bridge to remain in the closed position from 6 a.m. on October 18, 2004 through 6 p.m. on October 22, 2004. This temporary deviation is necessary to facilitate structural repairs at the bridge.

DATES: This deviation is effective from October 18, 2004 through October 22, 2004.

FOR FURTHER INFORMATION CONTACT: John McDonald, Project Officer, First Coast Guard District, at (617) 223-8364.

SUPPLEMENTARY INFORMATION: The Newburyport US1 Bridge, at mile 3.4, across the Merrimack River, has a vertical clearance of 35 feet at mean high water and 44 feet at mean low water in the closed position. The existing regulations are listed at 33 CFR 117.605(a).

The bridge owner, Massachusetts Highway Department, requested a temporary deviation from the drawbridge operating regulations to facilitate necessary structural repairs, the replacement of the locking pin motor and the brake unit, at the bridge.

This deviation to the operating regulations allows the bridge to remain in the closed position from 6 a.m. on October 18, 2004 through 6 p.m. on October 22, 2004.

This deviation from the operating regulations is authorized under 33 CFR 117.35 and will be performed with all due speed in order to return the bridge to normal operation as soon as possible.

Dated: September 17, 2004.
David P. Pekoske,
Rear Admiral, U.S. Coast Guard, Commander, First Coast Guard District.

[FR Doc. 04-22274 Filed 10-1-04; 8:45 am]

BILLING CODE 4910-15-P